DEPARTMENT OF VETERANS AFFAIRS

VA Directive 0005 on Scientific Integrity: Availability for Review and Comment

AGENCY: Office of Policy and Planning, Department of Veterans Affairs.

ACTION: Notice.

SUMMARY: This Federal Register Notice announces an opportunity for public review and comment on the Draft Department of Veterans Affairs (VA) Directive 0005 on Scientific Integrity. The Draft Directive incorporates the principles of scientific integrity contained in the Presidential Memorandum of March 9, 2009, and the Director, Office of Science and Technology Policy's Memorandum of December 17, 2010, on scientific integrity. It addresses how VA ensures quality science in its methods, review, policy application, and information dissemination.

DATES: Written comments on the Draft VA Directive 0005 on Scientific Integrity must be received on or before May 24, 2012.

ADDRESSES: Written comments may be submitted through http://www.Regulations.gov; or by mail or hand-delivery to Director, Regulations Management (02REG), Department of Veterans Affairs, 810 Vermont Avenue NW., Room 1068, Washington, DC 20420; or by fax to (202) 273-9026. Comments should indicate that they are submitted in response to “Draft VA Directive 0005: Scientific Integrity.” All comments received will be available for public inspection in the Office of Regulation Policy and Management, Room 1063B, between the hours of 8 a.m. and 4:30 p.m., Monday through Friday (except holidays). Call (202) 461-4902 for an appointment. Those without computer access may call Dr. Billy Jones at (202) 368-5836 to request a copy of the Draft Directive.

FOR FURTHER INFORMATION CONTACT: Billy E. Jones, MD, Senior Advisor to the Assistant Secretary for Policy and Planning (008), Department of Veterans Affairs, at 202-461-5762. (This is not a toll-free number.)

SUPPLEMENTARY INFORMATION:

Background

The Presidential Memorandum on Scientific Integrity and the Office of Science and Technology Policy 2010 guidance memorandum on scientific integrity call for ensuring the highest level of integrity in all aspects of the executive branch's involvement with scientific and technological processes.

The Draft VA Directive 0005 on Scientific Integrity:

□ Fosters a culture of transparency, integrity, and ethical behavior in the development and application of scientific and technological findings in VA;

□ Protects the development, application, and dissemination of scientific and technological information from inappropriate political or commercial influence;

□ Ensures that selection and retention of candidates for science and technology positions are based on demonstrated knowledge, potential, credentials, experience, and integrity;

□ Prohibits suppression or alteration of scientific and technological finds for political purposes;

□ Affords whistleblower protections to employees who have scientific integrity concerns;

□ Upholds professional and governmental standards for the conduct of research, including the protection of human subjects, laboratory animal welfare, research safety and security; research information protection and privacy; and research integrity;

□ Promotes free flow and exchange of scientific and technological information within the scientific and medical communities, as well as to Veterans and the general public;

□ Ensures that clinical care, health care operations, and public health decisions are informed by sound scientific data and rigorous scientific analysis;

□ Upholds the independence, transparency, and diversity of Scientific Advisory Committees;

□ Encourages the full participation of employees in scientific and professional societies, publication and presentation of scientific and technological findings in scientific journals, and at professional meetings.

In order to reach as many members of the public as possible, the Draft VA Directive 0005 on Scientific Integrity is available for public review and comment at http://www.va.gov/health/scint.asp. After the public comment period for this notice has closed, VA will make any necessary adjustments to the Draft Directive and publish a second notice responding to those comments.

Signing Authority

The Secretary of Veterans Affairs, or designee, approved this document and authorized the undersigned to sign and submit the document to the Office of the Federal Register for publication electronically as an official document of the Department of Veterans Affairs. John R. Gingrich, Chief of Staff, Department of Veterans Affairs, approved this document on April 3, 2012, for publication.

Dated: April 4, 2012.
Robert C. McFetridge,
Director of Regulation Policy and Management, Office of the General Counsel, Department of Veterans Affairs.

[FR Doc. 2012-8434 Filed 4-6-12; 8:45 am]

BILLING CODE 8320-01-P